ENVIRONMENTAL PROTECTION AGENCY

[FRL-9815-8]

Notification of a Public Teleconference of the Clean Air Act Advisory Committee (CAAAC)

AGENCY: Environmental Protection Agency (EPA).

ACTION: Notice of meeting.

SUMMARY: The Environmental Protection Agency (EPA) announces a public teleconference of the Clean Air Act Advisory Committee (CAAAC). The EPA established the CAAAC on November 19, 1990, to provide independent advice and counsel to EPA on policy issues associated with implementation of the Clean Air Act of 1990. The Committee advises on economic, environmental, technical, scientific and enforcement policy issues.

Dates & Addresses: Pursuant to 5 U.S.C. App. 2 Section 10(a) (2), notice is hereby given that the CAAAC will hold its next meeting via teleconference on June 25, 2013, from 3:00 p.m. to 5:00 p.m. (Eastern Time).

Inspection of Committee Documents: The Committee agenda and any documents prepared for the meeting will be publicly available on the CAAAC Web site at http://www.epa.gov/oar/caaac/ prior to the meeting. Thereafter, these documents, together with CAAAC meeting minutes, will be available by contacting the Office of Air and Radiation Docket and requesting information under docket EPA-HQ-OAR-2004-0075. The Docket office can be reached by email at: a-and-r-Docket@epa.gov or FAX: 202-566-9744.

FOR FURTHER INFORMATION CONTACT: Any member of the public who wants further information concerning the CAAAC's public teleconference may contact Jeneva Craig, Designated Federal Officer (DFO), Office of Air and Radiation, U.S. EPA by telephone at (202) 564-1674 or by email at craig.jeneva@epa.gov. Additional information on these meetings can be found on the CAAAC Web site: http://www.epa.gov/oar/caaac/.

For information on access or services for individuals with disabilities, please contact Ms. Jeneva Craig at (202) 564-1674 or craig.jeneva@epa.gov, preferably at least 10 days prior to the meeting to give EPA as much time as possible to process your request.

Dated: May 14, 2013.
Jeneva Craig,
Designated Federal Officer, Clean Air Act Advisory Committee, Office of Air and Radiation.

[FR Doc. 2013-12101 Filed 5-20-13; 8:45 am]

BILLING CODE 6560-50-P